DEPARTMENT OF DEFENSE

Office of the Secretary

Meeting of the National Commission on the Structure of the Air Force

AGENCY: Director of Administration and Management, DoD.

ACTION: Notice of Advisory Committee Meeting.

SUMMARY: Under the provisions of the Federal Advisory Committee Act (FACA) of 1972 (5 U.S.C., Appendix, as amended), the Government in the Sunshine Act of 1976 (5 U.S.C. 552b, as amended), and 41 CFR 102-3.150, the Department of Defense (DoD) announces that the following Federal advisory committee meeting of the National Commission on the Structure of the Air Force (“the Commission”) will take place.

DATES: Date of Closed Meeting, including Hearing and Commission Discussion: Monday, July 22, 2013.

ADDRESSES: 2521 South Clark Street, Suite 525, Crystal City, VA 22202, from 8:30 a.m. to 4:00 p.m.

FOR FURTHER INFORMATION CONTACT: Mrs. Marcia Moore, Designated Federal Officer, National Commission on the Structure of the Air Force, 1950 Defense Pentagon Room 3A874, Washington, DC 20301-1950. Email: dfoafstrucomm@osd.mil. Desk (703) 545-9113. Facsimile (703) 692-5625.

SUPPLEMENTARY INFORMATION:

Purpose of Meeting: The members of the Commission will hear testimony from individual witnesses and then will discuss the information presented at the hearings.

Agenda

July 22, 2013—Closed Meeting, Including Hearing and Commission Discussion: DoD speakers will provide classified information on the roles, missions and capabilities of the various DoD components and how they contribute to the national defense strategy, the integration of force requirements, and DoD's strategies and capabilities to address conflicts and threats. Confirmed speakers include: Mr. David Ochmanek, Deputy Assistant Secretary of Defense for Force Development, Office of the Secretary of Defense; and Major General Timothy Ray, U.S. Air Force, Director, Operational Planning, Policy and Strategy, Deputy Chief of Staff, Operations, Plans and Requirements, Headquarters, U.S. Air Force, Vice Admiral Kurt Tidd, Director of Operations, Joint Chiefs of Staff, and Major General James McLaughlin, Commander, 24th Air Force and Commander, Air Forces Cyber, Joint Base San Antonio—Lackland, Texas. Specific agenda topics include:

1. The translation of deploy-to-dwell rates into the percentage of the force, by component, when actually deployed.

2. The differences among the components in their ability to plan and generate forces.

3. The long term demand for rotational forces.

4. Assessment of the non-warplan-driven requirement for the reserve forces.

5. The Department's use of the Joint Operational Planning and Execution System and the current and future operations plans of the Combatant Commanders.

6. As a follow up to the Commissioner's interest in how well the active, reserve, and Guard forces manage their joint capabilities in the use of and response to cyber warfare, General McLaughlin will brief the Commissioners on its mission.

Meeting Accessibility: In accordance with section 10(d) of the FACA, 5 U.S.C. 552b, and 41 CFR 102-3.155, the DoD has determined that the meeting scheduled for July 22, 2013 will be closed to the public. Specifically, the Director of Administration and Management, with the coordination of the DoD FACA Attorney, has determined in writing that this portion of the meeting will be closed to the public because it will discuss classified information and matters covered by 5 U.S.C. 552b(c)(1).

Written Comments: Pursuant to 41 CFR 102-3.105(j) and 102-3.140 and section 10(a)(3) of the FACA, the public or interested organizations may submit written comments to the Commission in response to the stated agenda of the closed meeting or the Commission's mission. The Designated Federal Officer (DFO) will review all submitted written statements. Written comments should be submitted to Mrs. Marcia Moore, DFO, via facsimile or electronic mail, the preferred modes of submission. Each page of the comment must include the author's name, title or affiliation, address, and daytime phone number. The DFO will ensure that the written statements are provided to the membership for their consideration. All contact information may be found in FOR FURTHER INFORMATION CONTACT. Due to difficulties finalizing the meeting agenda and obtaining the required statutory determinations to approve closing the scheduled meeting of July 22, 2013, to the public for the National Commission on the Structure of the Air Force the requirements of 41 CFR 102-3.150(a) were not met. Accordingly, the Advisory Committee Management Officer for the Department of Defense, pursuant to 41 CFR 102-3.150(b), waives the 15-calendar day notification requirement.

Background

The National Commission on the Structure of the Air Force was established by the National Defense Authorization Act for Fiscal Year 2013 (Pub. L. 112-239). The Department of Defense sponsor for the Commission is the Director of Administration and Management. The Commission is tasked to submit a report, containing a comprehensive study and recommendations, by February 1, 2014 to the President of the United States and the Congressional defense committees. The report will contain a detailed statement of the findings and conclusions of the Commission, together with its recommendations for such legislation and administrative actions it may consider appropriate in light of the results of the study. The comprehensive study of the structure of the U.S. Air Force will determine whether, and how, the structure should be modified to best fulfill current and anticipated mission requirements for the U.S. Air Force in a manner consistent with available resources.

The evaluation factors under consideration by the Commission are for a U.S. Air Force structure that—(a) Meets current and anticipated requirements of the combatant commands; (b) achieves an appropriate balance between the regular and reserve components of the Air Force, taking advantage of the unique strengths and capabilities of each; (c) ensures that the regular and reserve components of the Air Force have the capacity needed to support current and anticipated homeland defense and disaster assistance missions in the United States; (d) provides for sufficient numbers of regular members of the Air Force to provide a base of trained personnel from which the personnel of the reserve components of the Air Force could be recruited; (e) maintains a peacetime rotation force to support operational tempo goals of 1:2 for regular members of the Air Forces and 1:5 for members of the reserve components of the Air Force; and (f) maximizes and appropriately balances affordability, efficiency, effectiveness, capability, and readiness.

Dated: July 16, 2013.
Aaron Siegel,
Alternate OSD Federal Register Liaison Officer, Department of Defense.

[FR Doc. 2013-17402 Filed 7-18-13; 8:45 am]

BILLING CODE 5001-06-P